DEPARTMENT OF HOMELAND SECURITY

[DHS-2005-0025]

Directorate of Information Analysis and Infrastructure Protection (IAIP); Open Meeting of National Infrastructure Advisory Council (NIAC)

AGENCY: Directorate of Information Analysis and Infrastructure Protection.

ACTION: Notice of meeting.

SUMMARY: The National Infrastructure Advisory Council (NIAC) will meet on Tuesday, April 12, 2005, from 1:30 p.m. to 4:30 p.m. at the National Press Club in Washington, DC. The meeting will be open to the public. Limited seating will be available. Reservations are not accepted. The NIAC advises the President of the United States on the security of critical infrastructures which include banking and finance, transportation, energy, manufacturing, and emergency government services. At this meeting, the NIAC will be briefed on the status of several Working Group activities in which the Council is currently engaged.

DATES: The NIAC will meet Tuesday, April 12, 2005, from 1:30 p.m. to 4:30 p.m.

ADDRESSES: The NIAC will meet at the National Press Club, 529 14th Street, NW., Washington, DC. You may submit comments, identified by DHS Docket DHS-2005-0025 by one of the following methods:

• EPA Federal Partner EDOCKET Web site: http://www.epa.gov/feddocket. Follow the instructions for submitting comments on the Web site.

• Federal eRulemaking Portal: http://www.regulations.gov. Follow the instructions for submitting comments.

• Mail/Hand Delivery/Courier: Department of Homeland Security, Attn: Ms. Nancy J. Wong, Infrastructure Coordination Division, Directorate of Information Analysis and Infrastructure Protection/703-235-5352, Anacostia Naval Annex, 245 Murray Lane, SW., Building 410, Washington, DC 20582, 7:30 a.m. to 4 p.m.

Instructions: All submissions received must include the DFHS-2005-0025. All comments received will be posted without change to http://www.epa.gov/feddocket, including any personal information provided.

FOR FURTHER INFORMATION CONTACT: Nancy J. Wong, NIAC Designated Federal Official, telephone 703-235-5352.

SUPPLEMENTARY INFORMATION: Notice of these meetings is given under the Federal Advisory Committee Act, 5 U.S.C. App. 2.

Draft Agenda of Committee Meeting on April 12, 2005:

I. Opening of Meeting

Nancy J. Wong, U.S. Department of Homeland Security (DHS)/Designated Federal Official, NIAC

II. Roll Call of Members

Nancy J. Wong

III. Opening Remarks and Introductions

NIAC Chairman, Erle A. Nye, Chairman of the Board, TXU Corp.

NIAC Vice Chairman, John T. Chambers, Chairman and CEO, Cisco Systems, Inc.

The Honorable Michael Chertoff, Secretary,

Department of Homeland Security (Invited)

General Matthew Broderick, Acting Under Secretary for Information analysis and Infrastructure Protection (IAIP), DHS (Invited)

Tom Dinanno, Acting Assistant Secretary for Infrastructure Protection, DHS (Invited)

Frances Fragos Townsend, Homeland Security Advisor (Invited)

Cheryl Peace, Director, Cyberspace Security, Homeland Security Council (Invited)

IV. Approval of January Minutes

NIAC Chairman Erle A. Nye

V. Status Reports on Current Working Group Initiatives

NIAC Chairman Erle A. Nye Presiding

A. Report on Common Vulnerability Scoring System (CVSS) Placement Status

NIAC Vice Chairman John T. Chambers, Chairman & CEO, Cisco Systems, Inc. and John W. Thompson, Chairman & CEO, Symantec Corporation, NIAC Member

B. Intelligence Coordination

NIAC Vice Chairman John T. Chambers, Chairman & CEO, Cisco Systems, Inc. and Chief Gilbert Gallegos, Police Chief, City of Albuquerque, New Mexico, NIAC Member

C. Risk Management Approaches To Protection

Thomas E. Noonan, Chairman, President & CEO, Internet Security Systems, Inc. NIAC Member;

Martha Marsh, President & CEO, Stanford Hospital and Clinics, NIAC Member

D. Education and Workforce Preparation

Alfred R. Berkeley III, e-Xchange Advantage Corp., NIAC Member

Dr. Linwood Rose, President, James Madison University, NIAC Member

VI. New Business

NIAC Chairman Erle A. Nye, NIAC Members

A. Implementation of the Sector Partnership Model

T.B.D—Working Group chairs to be determined

B. DHS Status Report/Presentation (TBD)

T.B.D.

VII. Adjournment

NIAC Chairman Erle A. Nye

Procedural

These meetings are open to the public. Please note that the meetings may close early if all business is finished.

Information on Services for Individuals With Disabilities

For information on facilities or services for individuals with disabilities, or to request special assistance at the meeting, telephone the Designated Federal Official as soon as possible.

Dated: March 18, 2005.
Nancy J. Wong,
Designated Federal Official for NIAC.

[FR Doc. 05-6511 Filed 3-29-05; 2:45 pm]

BILLING CODE 4410-10-M